DEPARTMENT OF STATE

[Public Notice 6619]

In the Matter of the Designation of Revolutionary Nuclei, a.k.a. Revolutionary Cells a.k.a. ELA a.k.a. Epanastatiki Pirines a.k.a. Epanastatikos Laikos Agonas a.k.a. June 78 a.k.a. Liberation Struggle a.k.a. Organization of Revolutionary Internationalist Solidarity a.k.a. Popular Revolutionary Struggle a.k.a. Revolutionary People's Struggle a.k.a. Revolutionary Popular Struggle as a Foreign Terrorist Organization pursuant to Section 219 of the Immigration and Nationality Act, as Amended

Based upon a review of the Administrative Records assembled in this matter pursuant to Section 219(a)(4)(C) of the Immigration and Nationality Act, as amended (8 U.S.C. 1189(a)(4)(C)) (“INA”), and in consultation with the Attorney General and the Secretary of the Treasury, I conclude that the circumstances that were the basis for the 2003 re-designation of Revolutionary Nuclei as a foreign terrorist organization have changed in such a manner as to warrant a revocation of the designation.

Therefore, I hereby revoke the designation of the aforementioned organization as a foreign terrorist organization, pursuant to Section 219 of the INA (8 U.S.C. 1189).

This determination shall be published in the Federal Register.

Dated: April 29, 2009.
Hillary Rodham Clinton,
Secretary of State, Department of State.

[FR Doc. E9-11549 Filed 5-15-09; 8:45 am]

BILLING CODE 4710-10-P